DEPARTMENT OF JUSTICE

Notice of Lodging Proposed Consent Decree

In accordance with Departmental Policy, 28 CFR 50.7, notice is hereby given that a proposed Consent Decree in United States v. Frasure Creek Mining, LLC, et al., Civil No. 12-56-ART, was lodged with the United States District Court for the Eastern District of Kentucky on May 15, 2014.

The proposed Consent Decree concerns a complaint filed by the United States against Frasure Creek Mining, LLC, Essar Minerals, Inc., Trinity Coal Corporation, Trinity Coal Partners, LLC, Bear Fork Resources, LLC, Falcon Resources, LLC, Prater Branch Resources, LLC, and Trinity Parent Corporation, pursuant to Sections 309(b) and 309(d) of the Clean Water Act, 33 U.S.C. 1319(b) and 1319(d), to obtain injunctive relief from and impose civil penalties against the Defendants for violating the Clean Water Act by discharging pollutants without a permit into waters of the United States. The proposed Consent Decree resolves these allegations by requiring the Defendants to mitigate the damage caused by the unpermitted discharges and to pay a civil penalty.

The Department of Justice will accept written comments relating to this proposed Consent Decree for thirty (30) days from the date of publication of this Notice. Please address comments to John Thomas H. Do, Trial Attorney, United States Department of Justice, Environment and Natural Resources Division, Post Office Box 7611, Washington, DC 20044-7611 and refer to United States v. Frasure Creek Mining, LLC, et al., DJ# 90-5-1-1-18938.

The proposed Consent Decree may be examined at the Clerk's Office, United States District Court for the Eastern District of Kentucky, 110 Main Street, Pikeville, KY 41501. In addition, the proposed Consent Decree may be examined electronically at http://www.justice.gov/enrd/Consent_Decrees.html.

Cherie L. Rogers,
Assistant Section Chief, Environmental Defense Section, Environment and Natural Resources Division.

[FR Doc. 2014-12415 Filed 5-28-14; 8:45 am]

BILLING CODE P